DEPARTMENT OF JUSTICE

Notice of Lodging of Consent Decree Pursuant to Comprehensive Environmental Response, Compensation, and Liability Act

Notice is hereby given that on September 4, 2001, a proposed consent decree in United States v. Ciba specialty Chemicals Corporation, et al., Civil Action No. 01-CV-4223, was lodged with the United States District Court for the District of New Jersey.

In this action, the United States alleges under, inter alia, Sections 106 and 107 of the Comprehensive Environmental Response, Compensation, and Liability Act (CERCLA), 42 U.S.C. 9606 and 9607, that Ciba Specialty Chemicals Corporation and Novartis Corporation are liable for injunctive relief and the federal government's costs in responding to the release of threatened release of hazardous substances at the Ciba-Geigy Superfund Sited in Toms River, Ocean County, New Jersey (the Site). Under the terms of the proposed consent decree, the settling defendants will implement cleanup actions relating to source control and soils at the Site and will pay the United States the sum of $250,000 with respect to the United States' claims. This settlement, in conjunction with earlier settlements in this matter, will result in the United States recovering over $170 million in cash and work in relation to the Site.

The Department of Justice will receive for a period of thirty (30) days from the date of this publication comments relating to the proposed partial consent decree. Comments should be addressed to the Assistant Attorney General of the Environment and Natural Resources Division, Department of Justice, Washington, D.C. 20530, and should refer to United States v. Ciba Specialty Chemicals Corporation, et. al., Civil Action No. 01-CV-4233, D.J. Ref. 90-11-2-289/1.

The proposed consent decree may be examined at the Office of the United States Attorney, District of New Jersey, 970 Broad Street, Newark, New Jersey 07102, and at U.S. Environmental Protection Agency Region II, 290 Broadway, New York, New York 10007-1866. A copy of the proposed consent decree may be obtained by mail from the Consent Decree Library, P.O. Box 7611, U.S. Department of Justice, Washington, DC 20044-7611. If requesting a copy of the proposed consent decree without appendices, please so note and enclose a check in the amount of $11.00 (25 cent per page reproduction cost). If requesting a copy of the proposed consent decree with appendices, please so note and enclose a check in the amount of $56.00.

Ronald Gluck,
Assistant Chief, Environmental Enforcement Section, Environment and Natural Resources Division.

[FR Doc. 01-23364 Filed 9-19-01; 8:45 am]

BILLING CODE 4410-15-M